DEPARTMENT OF COMMERCE

International Trade Administration

Announcement of Upcoming May 2020 Through April 2021 International Trade Administration Trade Missions

AGENCY: International Trade Administration, Department of Commerce.

SUMMARY: The United States Department of Commerce, International Trade Administration (ITA) is announcing six upcoming trade missions that will be recruited, organized, and implemented by ITA. These missions are:

• Security Mission for Economic Prosperity in El Salvador, Honduras, and Guatemala—May 10-15, 2020.

• Reconstruction Trade Mission to Southern Africa—June 15-18, 2020.

• Executive-led Trade Mission and Business Development Event in East Africa—August 31, 2020-September 3, 2020.

• The 13th Annual U.S. Industry Program at the International Atomic Energy Agency General Conference in Vienna, Austria—September 20-23, 2020.

• Cybersecurity Business Development Mission to Peru, Chile, and Uruguay, with an optional stop in Argentina—October 5-9, 2020.

• Cyber Security Business Development Mission to India—April 19-23, 2021.

A summary of each mission is found below. Application information and more detailed mission information, including the commercial setting and sector information, can be found at the trade mission website: http://export.gov/trademissions.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington, DC 20230; telephone (202) 482-3773.

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the export of products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and trade associations/organizations providing or promoting U.S. products and services, that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company participants' size and location may also be considered during the review process.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation or health risk in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Mission List: (additional information about each mission can be found at https://www.trade.gov/trade-missions).

Security Mission for Economic Prosperity in El Salvador, Guatemala, and Honduras

Dates: May 10-15, 2020

Summary

The United States Department of Commerce, International Trade Administration (ITA), is organizing a Security Mission for Economic Prosperity in El Salvador, Guatemala, Honduras, May 10-15, 2020. The Trade Mission will kick off with a regional conference, Risk Management for Economic Prosperity, on May 11, 2020, which the mission participants will attend. The conference is led by the regional American Chambers of Commerce and will have participation by officials from the governments of El Salvador, Guatemala, and Honduras. By joining in the mission and conference, participants will learn about regional priorities, policy and regulatory changes, and projects throughout the region. The purpose of the mission is to leverage the regional political and economic climate and include both Deal Team 2.0 and the America Crece Initiative. Both events will initiate new opportunities to advance the interests of U.S. business in these markets with the development and announcement by the new governments of priority projects in safety & security, information and communication technology (ICT), infrastructure, smart cities, ports, and energy.

Proposed Timetable

* Note: The final schedule and potential site visits will depend on the availability of host government and business officials, specific goals of mission participants, and ground transportation.

Sunday, May 10, 2020 | • Trade Mission Participants Arrive. Ice breaker reception for companies and core team members including participants and collaborators.
Monday, May 11, 2020 | • Regional SCO will kick off Risk Management for Economic Prosperity conference to which the mission participants will attend and learn about regional priorities, policy and regulatory changes, and projects throughout the region.
| • Reception in the evening at the Chief of Mission's residence for companies, government officials, and local private sector guests.
Tuesday, May 12, 2020 | • Matchmaking offered to mission participants in El Salvador.
Wednesday/Thursday, May 13-14, 2020 | • Arrival in Guatemala or Honduras for matchmaking and other networking.
Friday, May 15th | • End of Mission.

Participation Requirements

All parties interested in participating in the trade mission must complete and submit an application package for consideration by the DOC. All applicants will be evaluated on their ability to meet certain conditions and best satisfy the selection criteria as outlined below. A minimum of 10 and a maximum of 15 companies and/or trade associations will be selected to participate in the mission from the applicant pool.

Fees and Expenses

After a firm or trade association has been selected to participate on the mission, a payment to the Department of Commerce in the form of a participation fee is required. The participation fee for the Security Mission for Economic Prosperity in El Salvador then Guatemala and/or Honduras will be $3,500 for small or medium-sized enterprises (SME) 1 and $4,900 for large firms or trade associations. The fee for each additional firm representative (large firm or SME/trade organization) is $500. Expenses for travel, lodging, meals, and incidentals will be the responsibility of each mission participant. Interpreter and driver services can be arranged for an additional cost. Delegation members will be able to take advantage of U.S. Embassy rates for hotel rooms.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than March 2, 2020. The U.S. Department of Commerce will review applications and inform applicants of selection decisions on a rolling basis. Applications received after March 20, 2020, will be considered only if space and scheduling constraints permit.

Contacts

April Redmon, Senior International Trade Specialist, Global Safety & Security Team, U.S. Commercial Service-Virginia/Washington, DC, 703-235-0103, April.Redmon@trade.gov

Judy Lao, Senior International Trade Specialist, Global Markets, WH Trade Policy, 202-482-2536, Judy.Lao@trade.gov

Rachel Kreissl, Senior Commercial Officer, U.S. Commercial Service—El Salvador, U.S. Embassy San Salvador, 503=2501-3211, Rachel.Kreissl@trade.gov

Antonio Prieto, Senior Commercial Specialist, U.S. Commercial Service—Guatemala, U.S. Embassy Guatemala City, (502) 2326-4310/2326-4000, Antonio.Prieto@trade.gov

Rommel Alcantara, Commercial Specialist, U.S. Commercial Service—Honduras, U.S. Embassy Tegucigalpa, (504) 2236-9320, ext 4092, Rommel.Alcantara@trade.gov

Maria Rivera, Senior Commercial Specialist, U.S. Commercial Service—El Salvador, U.S. Embassy San Salvador, 503-2501-3060, Maria.Rivera@trade.gov

Reconstruction Trade Mission to Southern Africa

Dates: June 15-18, 2020

Summary

The proposed Reconstruction Trade Mission to Southern Africa will visit Maputo, Mozambique, and have optional visits to Harare, Zimbabwe and/or Lilongwe, Malawi. The purpose of the mission is to highlight the reconstruction needs of these countries to U.S. suppliers and service providers following the devastating Cyclone Idai. Cyclone Idai is regarded as one of the worst-ever natural disasters in the southern hemisphere which had a direct impact in Mozambique, Zimbabwe and Malawi. In the early hours of March 15, 2019 wind speeds of more than 100 miles/hour and a storm surge surpassing 14 feet devastated the coastline. The eye of the storm hit at and near the city of Beira, Mozambique and spread to neighboring Malawi and Zimbabwe with large-scale flooding and mudslides.

The trade mission participants would meet with the Ministries of Energy and Natural Resources, USAID partners, World Bank and African Development Bank representatives, and other relevant government and private entities in Mozambique, Zimbabwe, and Malawi to discuss opportunities surrounding the reconstruction efforts. During the mission, U.S. companies will be introduced to potential local business partners and will be able to identify projects in which there is a significant demand for their products and services. The Mission will include representatives from U.S. producers and service providers that offer critical infrastructure, energy infrastructure, construction-related products, health and IT systems infrastructure and services. Participating firms and associations will gain market insights, make industry contacts, solidify business strategies, and be better positioned to advance specific projects, with the goal of increasing U.S. exports of products and services to Mozambique, Zimbabwe, and Malawi. The mission will include customized one-on-one business appointments with pre-screened potential buyers, agents, distributors, and joint venture partners; meetings with state and local government officials and industry leaders; and networking events. The trade mission will also have the added benefit of helping contribute to the humanitarian effort, further burnishing the image of U.S. companies and strengthening U.S. relations with these countries.

Proposed Timetable

* Note: The final schedule and potential site visits will depend on the availability of host government and business officials, specific goals of mission participants, and ground transportation.

Monday, June 15, 2019, Optional Stop—Harare, Zimbabwe/Lilongwe, Malawi | Economic Briefing. Government and development bank meetings. Ambassador Reception.
Tuesday, June 16, 2019, Optional Stop—Harare/Lilongwe, Maputo, Mozambique | Meetings with local private sector. Travel to Maputo. Networking Reception.
Wednesday, June 17, 2019, Maputo, Mozambique | Economic Briefing. Meetings with Government. Ambassador Reception.
Thursday, June 18, 2019, Maputo, Mozambique | Government meetings. Meetings with development banks. Meetings with private sector. Depart.

Participation Requirements

All parties interested in participating in the Reconstruction Trade Mission to Southern Africa must complete and submit an application package for consideration by DOC. All applicants will be evaluated on their ability to meet certain conditions and best satisfy the selection criteria as outlined below. U.S. companies or trade associations already doing business with countries as well as U.S. companies seeking to enter to the countries' markets for the first time may apply. A minimum of 15 companies and/or trade associations will be selected for participation in this mission from the applicant pool.

Fees and Expenses

After a company or trade association has been selected to participate on the mission, a payment to the DOC in the form of a participation fee is required. All companies will visit Maputo, Mozambique as part of the mission. The participation fee for the main stop to Maputo, Mozambique is $3,100 for a large firm or trade association and $1,400 for a small or medium-sized enterprise (SME), which covers one representative. For additional representatives the company participation fee is $200. The company should then select which optional stop, if any, it would like to join, Lilongwe, Malawi and/or Harare, Zimbabwe. For the optional stop to Lilongwe, Malawi the participation fee is $3,100 for a large firm or trade association and $1,500 for a small or medium-sized enterprise (SME), which covers one representative with the fee for an additional representative at $100. To participate in the optional stop in Harare, Zimbabwe, the participation fee for the optional stop to Harare is $1,750 for a large firm or trade association and $800 for a small or medium-sized enterprise (SME), which covers one representative. The minimum number of firms required for the Zimbabwe stop is three, and a company must pay $200 for an additional representative. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the U.S. Department of Commerce trade mission calendar (www.export.gov/trademissions) and other internet websites, press releases to general and trade media, notices by industry trade associations and other multiplier groups, and publicity at industry meetings, symposia, conferences, and trade shows.

Recruitment for the mission will begin immediately and conclude no later than March 13, 2020. The U.S. Department of Commerce will review applications and make selection decisions on a rolling basis until the minimum of fifteen participants is reached. We will inform all applicants of selection decisions as soon as possible after the applications are reviewed. Applications received after March 13th will be considered only if space and scheduling constraints permit.

How To Apply

Applications can be downloaded from the trade mission website or can be obtained by contacting Tamarind Murrietta or Ashley Bubna at the U.S. Department of Commerce (see contact details below). Completed applications should be submitted to Tamarind Murrietta or Ashley Bubna.

Contacts

U.S. Commercial Service Mozambique, Tamarind Murrietta, U.S. Commercial Counselor, Tamarind.Murrietta@trade.gov, +258-2135-5475

U.S. Commercial Service Office of Africa, Ashley Bubna, Desk Officer, Ashley.bubna@trade.gov, +1-202-482-5205

Executive-Led Mission and Business Development Event in East Africa

Date: August 31-September 3, 2020

Summary

The United States Department of Commerce (USDOC), International Trade Administration (ITA), is organizing a two-part program consisting of an Executive-led Trade Mission (TM) and a Commercial Service (CS)-supported Business Development Event in Nairobi, Kenya.

The TM will be Executive-led with an emphasis on Business-to-Government (B2G) meetings for U.S. companies interested in competing for government projects that are a part of the Government of Kenya's (GOK) Big Four agenda. Following the TM meetings, a larger group of U.S. companies will join the delegation to take part in a CS-supported event, the American Chamber of Commerce Summit 2020 (Summit). The Summit will have a regional focus and provide U.S. companies with opportunities to gain exposure to companies and officials from markets across East Africa (i.e., Ethiopia, Kenya, Rwanda, Tanzania, and Uganda).

In addition to the two-part program in Kenya, interested companies are able to select optional spin-offs for tailored business meetings in Uganda and/or Tanzania before and after the Kenyan program, respectively.

Schedule

Proposed Timetable *

* Note: The final schedule of meetings, events, and site visits will depend on the availability of host government and business officials, specific goals of mission participants, and flight availability and ground transportation options.

Thursday, August 27 | • (OPTIONAL) B2B/B2G Meetings in Kampala, Uganda.
Friday-Sunday, August 28-30 | • Weekend Travel.
| • Trade Mission Participants Arrive in Kenya.
| • Country Briefing.
Monday, August 31 | • Trade Mission B2G/B2B Meetings.
| • Official Luncheon.
| • Trade Mission B2G/B2B Meetings.
Tuesday, September 1 | • Trade Mission B2G/B2B Meetings.
| • Official Reception at Ambassador's Residence.
Wednesday-Thursday, September 2-3 | • AmCham Summit 2020.
| • Panel Sessions.
| • Industry breakouts.
| • B2B Summit Meetings.
| • Summit Reception.
Friday-Sunday, September 4-6 | • (OPTIONAL) Weekend Travel.
| • Trade Mission Participants Arrive.
| • Country Briefing.
Monday, September 7 | • (OPTIONAL) B2B/B2G Meetings in Dar es Salaam, Tanzania.

Participation Requirements

All parties interested in participating in the executive-led trade mission must complete and submit an application package for consideration by the DOC. All applicants will be evaluated on their ability to meet certain conditions and best satisfy the selection criteria as outlined below. A minimum of six and maximum of ten firms and/or trade associations will be selected to participate in the mission from the applicant pool.

Fees and Expenses

After a firm or trade association has been selected to participate on the mission, a payment to the USDOC in the form of a participation fee is required. The participation fee for the Executive-Led Mission will be $2,300 for small or medium-sized enterprises (SME) 1; and $3,400 for large firms or trade associations. The fee for each additional firm representative (large firm or SME/trade organization) is $500.

Fees for optional spinoffs to Uganda and/or Tanzania will follow the Gold Key Service fee structure at an additional $950 per small, $2,300 per medium-sized, and $3,400 per large firm and trade association/organization, plus any direct costs.¹

¹ See https://www.export.gov/article?id=CS-User-Fees for the U.S. Commercial Service user fee schedule for Gold Key Service.

Timeline for Recruitment

Mission recruitment will be conducted in an open and public manner, including publication in the Federal Register, posting on the USDOC trade mission calendar (http://export.gov/trademissions) and other internet websites, press releases to general and trade media, direct mail, notices by industry trade associations and other multiplier groups, and publicity at industry meetings, symposia, conferences, and trade shows. Recruitment for the mission will begin immediately and conclude no later than July 31, 2020. The USDOC will review applications and inform applicants of selection decisions on a comparative basis. Applications received after July 31, 2020 will be considered only if space and scheduling constraints permit.

Contacts

U.S. & Foreign Commercial Service—Nairobi Team:

Leone Mutoka, Commercial Assistant, +254-20-363-6438, Leone.Mutoka@trade.gov

Judy Magondu, Commercial Assistant, +254 (20) 363-6400, Judy.Magondu@trade.gov

Daniel Gaines, Commercial Officer, +254-20-363-6000 ext. 6424, Daniel.Gaines@trade.gov

Diane Jones, Senior Commercial Officer, +254-20-363-6000 ext. 6424, Diane.Jones@trade.gov

U.S. & Foreign Commercial Service—Dar es Salaam Team:

Patricia Wagner, Senior Commercial Officer, +255-22-229-4243, Patricia.Wagner@trade.gov

Mary Msemwa, Commercial Specialist, + 255-22-229-4340, Mary.Msemwa@trade.gov

State Department Partner Post—Kampala Team:

Kimberly Harrington, Counselor for Political and Economic Affairs, harringtonkd@state.gov, +256 (0) 414-306214

Mark R. Krumm, Econ Officer, KrummMR@state.gov, +256 (0) 414-306-239

13th Annual U.S. Industry Program at the International Atomic Energy Agency (IAEA) General Conference in Vienna, Austria

Date: September 20-23, 2020

Summary

The United States Department of Commerce's (DOC) International Trade Administration (ITA), with participation from the U.S. Departments of Energy and State, is organizing the 13th Annual U.S. Industry Program at the International Atomic Energy Agency (IAEA) General Conference, to be held September 20-23, 2020, in Vienna, Austria. The IAEA General Conference is the premier global meeting of civil nuclear policymakers and typically attracts senior officials and industry representatives from all 170 Member States. The U.S. Industry Program is part of the U.S. Department of Commerce's (DOC) Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: Meetings with foreign delegations and discussions with senior U.S. Government officials on important civil nuclear topics including regulations, technology and standards, liability, public acceptance, export controls, financing, infrastructure development, and R&D cooperation. Past U.S. Industry Programs have included participation by the U.S. Secretary of Energy, the Chairman of the U.S. Nuclear Regulatory Commission (NRC), and senior U.S. Government officials from the Departments of Commerce, Energy, State, the Export-Import Bank of the United States, and the National Security Council.

There are significant opportunities for U.S. businesses in the global civil nuclear energy market. With 55 reactors currently under construction in 15 countries and 160 nuclear plant projects planned in 27 countries over the next 8-10 years, this translates to a market demand for equipment and services totaling $500-740 billion over the next ten years.

Proposed Timetable

**** Note that specific events and meeting times have yet to be confirmed ****

Sunday, September 20

3:00 p.m.-5:00 p.m.—1-1 Showtime Meetings with visiting ITA Staff

6:00 p.m.-8:00 p.m.—U.S. Industry Welcome Reception

Monday, September 21

7:00 a.m.—Industry Program Breakfast Begins

8:00 a.m.-9:45 a.m.—U.S. Policymakers Roundtable

9:45 a.m.-10:00 a.m.—Break

10:00 a.m.-11:00 a.m.—USG Dialogue with Industry

11:00 a.m.-6:00 p.m.—IAEA Side Events

11:00 a.m.-12:30 p.m.—Break

12:30-6:00 p.m.—Country Briefings for Industry Delegation (presented by foreign delegates)

7:30-9:30 p.m.—U.S. Mission to the IAEA Reception

Tuesday, September 22

9:00 a.m.-6:00 p.m.—Country Briefings for Industry (presented by foreign delegates)

10:00 a.m.-6:00 p.m.—IAEA Side Event Meetings

Wednesday, September 23

9:00 a.m.-6:00 p.m.—Country Briefings for Industry (presented by foreign delegates)

10:00 a.m.-6:00 p.m.—IAEA Side Event Meetings

Participation Requirements

All parties interested in participating in the trade mission must complete and submit an application package for consideration by the DOC. All applicants will be evaluated on their ability to meet certain conditions and best satisfy the selection criteria as outlined below. A minimum of 15 and maximum of 50 companies and/or trade associations and/or U.S. academic and research institutions will be selected to participate in the mission from the applicant pool. The first ten applicants will be permitted to send two representatives per organization (if desired). After the first ten applicants, additional representatives will be permitted only if space is available. Participating companies may send more than two participants if space permits. The Department of Commerce will evaluate applications and inform applicants of selection decisions beginning three weeks after publication in the Federal Register and on a rolling basis thereafter until the maximum number of participants has been selected.

Fees and Expenses

After a company or organization has been selected to participate on the mission, a payment to the DOC in the form of a participation fee is required. The fee covers ITA support to register U.S. industry participants for the IAEA General Conference. Expenses for travel, lodging, meals, and incidentals will be the responsibility of each mission participant. Interpreter and driver services can be arranged for additional cost. Participants will be able to take advantage of discounted rates for hotel rooms.

The fee to participate in the event is $5,200 for a large company and $4,400 for a small or medium-sized company (SME)2, a trade association, or a U.S. university or research institution. The fee for each additional representative (large company, trade association, university/research institution, or SME) is $2,000.

Timeframe for Recruitment and Application

Mission recruitment will be conducted in an open and public manner, including publication in the Federal Register, posting on the Commerce Department trade mission calendar (http://export.gov/trademissions), and notices by industry trade associations and other multiplier groups. Recruitment for the mission will begin immediately and conclude no later than July 17, 2020. The U.S. Department of Commerce will review applications and inform applicants of selection decisions on a rolling basis. Applications received after July 20, 2020, will be considered only if space and scheduling constraints permit.

Contacts

Jonathan Chesebro, Industry & Analysis, Office of Energy and Environmental Industries, Washington, DC, Tel: (202) 482-1297, Email: jonathan.chesebro@trade.gov

Devin Horne, Industry & Analysis, Office of Energy and Environmental Industries, Washington, DC, Tel: (202) 482-0775, Email: devin.horne@trade.gov

Cyber-Security Business Development Mission to Peru, Chile, and Uruguay With Optional Stop in Argentina

Dates: October 5-9, 2020

Summary

The United States Department of Commerce, International Trade Administration (ITA), is organizing a Cybersecurity Business Development Mission to Peru, Chile, and Uruguay, October 5-9, 2020, with an optional stop in Argentina on October 13, 2020.

This mission aims to introduce U.S. firms and trade associations to some of South America's most rapidly growing information and communication technology (ICT), security, and critical infrastructure protection markets. It will assist U.S. companies in finding business partners to which they may export their products and services to the region. Target participants are U.S. companies and U.S. trade associations with members that provide cybersecurity and critical infrastructure protection products and services. The mission will visit Santiago, Chile; Montevideo, Uruguay; and Lima, Peru, along with an optional stop in Buenos Aires, Argentina. Participating firms will have the opportunity to gain market insights, make industry contacts, solidify business strategies, and advance their own specific projects, all with the goal of increasing U.S. cyber security product and service exports to the region. This mission will include customized, one-on-one, business appointments with pre-screened potential buyers, agents, distributors, and joint venture partners. It will also allow for meetings with industry leaders as well as state and local government officials, along with other networking events.

Proposed Timetable

* Note: The final schedule and potential site visits will depend on the availability of host government and business officials, specific goals of mission participants, and ground transportation.

Sunday, October 4, 2020 | • Trade Mission Participants Arrive in Lima, Peru.
Monday, October 5, 2020 | • Welcome and Country Briefing (Peru).
| • Presentations and/or cabinet/ministry meetings.
| • Networking Lunch.
| • One-on-One business matchmaking appointments.
| • Networking Reception at Ambassador's residence (TBC).
Tuesday, October 6, 2020 | • Travel to Santiago, Chile.
| • Welcome and Country Briefing (Chile).
| • Presentations.
Wednesday, October 7, 2020 | • One-on-One business matchmaking appointments.
| • Networking Lunch.
| • Cabinet/ministry meetings.
| • Networking Reception at Ambassador's residence (TBC).
Thursday, October 8, 2020 | • (Morning) Travel to Montevideo, Uruguay.
| • (Afternoon)Welcome and briefing.
| • Presentations by Uruguayan government entities.
Friday, October 9, 2020 | • (Morning) Business matchmaking.
| • Closing Ambassador's reception (TBC).
| • (Afternoon) Trade mission participants depart for optional Argentina stop or return home.
Saturday-Monday, October 10-12, 2020 | • Travel day or free time for Argentina optional stop participants.
| • National Holiday (Argentina) on Monday, October 12th.
Tuesday, October 13, 2020 (Optional) | • Welcome and Country Briefing (Argentina).
| • One-on-One business matchmaking appointments.

Participation Requirements

All parties interested in participating in the trade mission must complete and submit an application package for consideration by the Department of Commerce. All applicants will be evaluated on their ability to meet certain conditions and best satisfy the selection criteria as outlined below. A minimum of 12 and maximum of 15 firms and/or trade associations will be selected to participate in the mission from the applicant pool.

Fees and Expenses

After a firm or trade association has been selected to participate on the mission, a payment to the Department of Commerce in the form of a participation fee is required. The participation fee for the business development mission will be $5,700 for small or medium-sized enterprises (SME); and $7,750 for large firms or trade associations. The fee for each additional firm representative (large firm or SME/trade organization) is $1,000. The cost for the optional stop in Argentina is not included and is charged as a full Gold Key Service fee at an additional $950 per small, $2,300 per medium-sized, and $3,400 per large firm and trade association/organization, plus any direct costs.² Expenses for travel, lodging, meals, and incidentals will be the responsibility of each mission participant. Interpreter and driver services can be arranged for additional cost. Delegation members will be able to take advantage of U.S. Embassy rates for hotel rooms.

² See https://www.export.gov/article?id=CS-User-Fees for the U.S. Commercial Service user fee schedule for Gold Key Service.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than July 17, 2020. The U.S. Department of Commerce will review applications and inform applicants of selection decisions on a rolling basis until the maximum number of participants is selected. Applications received after July 17, 2020, will be considered only if space and scheduling constraints permit.

Contacts

USA

Gemal Brangman, Senior Advisor, Trade Missions, Trade Events Management Task Force, Washington, DC, 202-482-3773, Gemal.Brangman@trade.gov

Paul Matino, Senior International Trade Specialist, Baltimore, MD—USEAC, 410-962-4539, Paul.Matino@trade.gov

Pompeya Lambrecht, Senior International Trade Specialist, Northern Virginia—USEAC, 703-235-0102, Pompeya.Lambrecht@trade.gov

Peru

Leon Skarshinski, Commercial Officer, U.S. Embassy—Lima, Peru, Leon.Skarshinski@trade.gov

Chile

Joshua Leibowitz, Commercial Officer, U.S. Embassy—Santiago, Chile, Joshua.Leibowitz@trade.gov

Uruguay

Matthew Poole, Senior Commercial Officer, U.S. Embassy—Montevideo, Uruguay, Matthew.Poole@trade.gov

Argentina

Karen Ballard, Commercial Officer, U.S. Embassy—Santiago, Chile, Karen.Ballard@trade.gov

Cyber Security Business Development Mission to India

Dates: April 19-23, 2021

Summary

The United States Department of Commerce, International Trade Administration (ITA), is organizing an Executive-led Cyber Security Business Development Mission to India.

The purpose of the mission is to introduce U.S. firms and trade associations to India's information and communication technology (ICT) security and critical infrastructure protection markets and to assist U.S. companies to find business partners and export their products and services to the region. The mission is intended to include representatives from U.S. companies and U.S. trade associations with members that provide cyber security, data protection, critical infrastructure protection, and other cyber security related equipment and services. The mission will visit India where U.S. firms will have access to business development opportunities across India. Participating firms will gain market insights, make industry contacts, solidify business strategies, and advance specific projects, with the goal of increasing U.S. exports of products and services to India. The mission will include customized one-on-one business appointments with pre-screened potential buyers, agents, distributors and joint venture partners; meetings with state and local government officials and industry leaders; and networking events.

Proposed Timetable

* Note: The final schedule and potential site visits will depend on the availability of host government and business officials, specific goals of mission participants, and ground transportation.

Sunday, April 18 | • Trade Mission Participants Arrive in New Delhi.
Monday, April 19 | • Welcome and Country Briefing.
| • One-on-One business matchmaking appointments.
| • Networking Lunch (No-Host).
| • One-on-One business matchmaking appointments.
| • Networking Reception at Deputy Chief of Mission residence (TBC).
Tuesday, April 20 | • Breakfast roundtable with Indian industry groups and associations (TBC).
| • Cyber Security event to share best practices and promote participants.
| • Networking Lunch (No-Host).
| • Ministry and other Indian Government Briefings and Meetings.
| • Transportation from Hotel to Airport Included • Travel to Mumbai.
Wednesday, April 21 | • Welcome Briefing, Mumbai and Maharashtra State.
| • One-on-One business matchmaking appointments.
| • Networking Lunch (No-Host).
| • One-on-One business matchmaking appointments.
| • Networking Reception at Consul General residence (TBC).
Thursday, April 22 | • Breakfast roundtable with Indian industry groups and associations (TBC).
| • Cyber Security event to share best practices and promote participants.
| • Networking Lunch (No-Host).
| • Indian Government Briefings and Meetings.
| • Travel to Airport (NOT INCLUDED).
Friday, April 23 | • OPTIONAL STOP—Bangalore or Hyderabad.
| • One-on-One business matchmaking appointments.
| • Networking Lunch (No-Host).
| • One-on-One business matchmaking appointments.

Participation Requirements

All parties interested in participating in the trade mission must complete and submit an application package for consideration by the DOC. All applicants will be evaluated on their ability to meet certain conditions and best satisfy the selection criteria as outlined below. A minimum of 12 and maximum of 20 firms and/or trade associations will be selected to participate in the mission from the applicant pool.

Fees and Expenses

After a firm or trade association has been selected to participate on the mission, a payment to the Department of Commerce in the form of a participation fee is required. The participation fee for the Cyber Security Business Development Mission will be $3,200 for small or medium-sized enterprises (SME); and $6,000 for large firms or trade associations. The fee for each additional firm representative (large firm or SME/trade organization) is $1,000. Expenses for travel, lodging, meals, and incidentals will be the responsibility of each mission participant. Interpreter and driver services can be arranged for additional cost. Delegation members may be able to take advantage of preferential rates for hotel rooms.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than February 1, 2021. The U.S. Department of Commerce will review applications and inform applicants of selection decisions on a rolling basis. Applications received after February 1, 2021 will be considered only if space and scheduling constraints permit.

CONTACTS

USA

Pompeya Lambrecht, Senior International Trade Specialist, U.S. Commercial Service, International Trade Administration | U.S. Department of Commerce, Arlington, VA, Tel: 703-756-1707, Pompeya.Lambrecht@trade.gov

Gemal Brangman, Project Officer, International Trade Administration | U.S. Department of Commerce, Washington, DC, Tel: 202-482-3773, Fax: 202-482-9000, Gemal.Brangman@trade.gov

Paul Matino, International Trade Specialist, U.S. Commercial Service, International Trade Administration | U.S. Department of Commerce, 300 W. Pratt St, Suite 300, Baltimore, MD 21201, Tel. 410-962-4581

Jorge Pardo, International Trade Specialist, International Trade Administration, Industry and Analysis, Office of Digital Services Industries, U.S. Department of Commerce, Tel: 202-482-5879, Jorge.Pardo@trade.gov.

Office of South Asia

Noor Sclafani, India, Pakistan, Afghanistan Desk, International Trade Administration, U.S. Department of Commerce, Tel: 202-482-1421, Noor.Sclafani@trade.gov

Carla Menéndez McManus, Commercial Officer, U.S. Consulate General, Mumbai, U.S. Commercial Service, International Trade Administration | U.S. Department of Commerce, Tel: + 91-22-672-4000, Carla.Menendez@trade.gov

In India, until July 2020:

Erick Kish, Commercial Officer, U.S. Embassy New Delhi, U.S. Commercial Service, International Trade Administration | U.S. Department of Commerce, Tel: +91-11-2347-2347, Erick.Kish@trade.gov.

In India, from August 2020 onwards:

Brenda VanHorn, Principal Commercial Officer, U.S. Consulate Mumbai, U.S. Commercial Service, International Trade Administration | U.S. Department of Commerce, Tel: + 91-22-672-4215, Brenda.VanHorn@trade.gov.

Gemal Brangman,
Senior Advisor for Trade Missions.

[FR Doc. 2020-04210 Filed 2-28-20; 8:45 am]

BILLING CODE 3510-DR-P